NATIONAL ARCHIVES AND RECORDS ADMINISTRATION

36 CFR Part 1280

RIN 3095-AB17

NARA Facilities; Public Use; Correction

AGENCY: National Archives and Records Administration (NARA).

ACTION: Proposed rule; correction.

SUMMARY: This document corrects the preamble to a proposed rule published in the Federal Register of April 18, 2003, regarding public use of NARA facilities. This document corrects a fax number in the ADDRESSES section.

DATES: Comments are due by June 17, 2003.

FOR FURTHER INFORMATION CONTACT: Kim Richardson at telephone number 301-837-2902 or fax number 301-837-0319.

ADDRESSES: In the proposed rule FR Doc. 03-9585, beginning on page 19168 in the issue of April 18, 2003, make the following correction, in the ADDRESSES section. On page 19168 in the third column, in the ADDRESSES section, second sentence, change the fax number to 301-837-0319.

Dated: April 28, 2003.
Nancy Allard,
Federal Register Liaison Officer.

[FR Doc. 03-10808 Filed 5-1-03; 8:45 am]

BILLING CODE 7515-01-P